FEDERAL TRADE COMMISSION

DEPARTMENT OF HEALTH AND HUMAN SERVICES

Public Workshop: Marketing, Self-Regulation & Childhood Obesity

AGENCIES: Federal Trade Commission (FTC or Commission); Department of Health and Human Services (HHS).

ACTION: Joint notice announcing public workshop and requesting public comment and participation.

SUMMARY: The FTC and HHS are planning to host a public workshop, “Marketing, Self-Regulation & Childhood Obesity,” to explore self-regulatory marketing initiatives in the food and beverage industry that respond to concerns about childhood obesity.

The event is open to the public and there is no fee for attendance. For admittance to the conference center, all attendees will be required to show a valid form of photo identification, such as a driver's license.

The FTC will accept pre-registration for this workshop. Pre-registration is not necessary to attend, but is encouraged so that we may better plan this event. To pre-register, please e-mail your name and affiliation to the e-mail box for the workshop, at FoodMarketingtoKids@ftc.gov. When you pre-register, we collect your name, affiliation, and your e-mail address. This information will be used to estimate how many people will attend and better understand the likely audience for the workshop. We may use your e-mail address to contact you with information about the workshop. Under the Freedom of Information Act (FOIA) or other laws, we may be required to disclose the information you provide to outside organizations. For additional information, including routine uses permitted by the Privacy Act, see the Commission's Privacy Policy at http://www.ftc.gov/ftc/privacy.htm. The FTC Act and other laws the Commission administers permit the collection of this contact information to consider and use for the above purposes.

Additional information about the workshop will be posted on the FTC's Web site at http://www.ftc.gov/bcp/workshops/foodmarketingtokids/index.htm.

DATES: The workshop will be held on July 14 and 15, 2005 at the Federal Trade Commission's Satellite Building Conference Center located at 601 New Jersey Avenue, NW., Washington, DC. Comments and requests to participate as a panelist in the workshop must be received on or before Thursday, June 9, 2005.

Requests to Participate as a Panelist: Persons filing requests to participate as a panelist will be notified on or before Thursday, June 23, 2005, if they have been selected. For further instructions, please see the “Requests to Participate as a Panelist in the Workshop” section below.

Written and Electronic Comments: Any person may submit written or electronic comments on the topics to be discussed by the panelists. Such comments must be received on or before Thursday, June 9, 2005. For further instructions on submitting comments, please see the ADDRESSES section below. To read our policy on how we handle the information you submit, please visit http://www.ftc.gov/ftc/privacy.htm.

ADDRESSES: Comments and requests to participate as a panelist in the workshop should refer to “Food Marketing to Kids Workshop—Comment [or Request to Participate], Project No. P034519” to facilitate the organization of comments and requests to participate. A comment or request to participate filed in paper form should include this reference both in the text and on the envelope, and should be mailed or delivered, with two complete copies, to the following address: Federal Trade Commission/Office of the Secretary, Room 159-H (Annex H), 600 Pennsylvania Avenue, NW., Washington, DC 20580. Because paper mail in the Washington area and at the Agency is subject to delay, please consider submitting your comments in electronic form, as prescribed below. Comments and requests to participate containing confidential material, however, must be filed in paper form, must be clearly labeled “Confidential,” and must comply with Commission Rule 4.9(c).¹

¹ The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments filed in electronic form should be submitted by clicking on the following Web link: https://secure.commentworks.com/ftc-foodmarketingtokids and following the instructions on the Web-based form. To ensure that the Commission considers an electronic comment, you must file it on the Web-based form at the https://secure.commentworks.com/ftc-foodmarketingtokids Web link. You may also visit http://www.regulations.gov to read this request for public comment and may file an electronic comment through that Web site. The Commission will consider all comments that regulations.gov forwards to it.

The FTC Act and other laws the Commission administers permit the collection of public comments to consider and use in this proceeding as appropriate. All timely and responsive public comments, whether filed in paper or electronic form, will be considered by the Commission, and will be available to the public on the FTC Web site, to the extent practicable, at http://www.ftc.gov. As a matter of discretion, the FTC makes every effort to remove home contact information for individuals from the public comments it receives before placing those comments on the FTC Web site. More information, including routine uses permitted by the Privacy Act, may be found in the FTC's privacy policy, at http://www.ftc.gov/ftc/privacy.htm.

FOR FURTHER INFORMATION CONTACT: Richard Kelly, 202 326-3304 or Michelle Rusk, 202 326-3148, FTC, Bureau of Consumer Protection. The FTC staff contacts can be reached by mail at: Federal Trade Commission, 601 New Jersey Avenue, NW., Washington, DC 20580. Jennifer Bishop, 202 690-8384, HHS, Office of the Assistant Secretary for Planning and Evaluation. The HHS staff contact can be reached by mail at: The U.S. Department of Health and Human Services, 200 Independence Avenue, SW., Room 447-D, Washington, DC 20201.

A detailed agenda and additional information on the workshop will be posted by Thursday, June 23, 2005 on the FTC's Web site at http://www.ftc.gov/bcp/workshops/food marketingtokids/index.htm.

SUPPLEMENTARY INFORMATION:

Background and Workshop Goals

Background: Recently increasing attention has been given to the importance of a balanced and nutritious diet and physical activity in childhood to ensure healthy growth and development and prevent chronic conditions and disease. Obesity in children has become one of the top public health issues in the United States. According to the Centers for Disease Control and Prevention, over the last three decades, rates of obesity have more than doubled for children ages 2 to 5 years and for adolescents 12 to 19 years and have tripled for children ages 6 to 11 years. Approximately nine million children over age 6 are considered obese.² With increasing obesity rates, the incidence of type 2 diabetes and other long-term health problems is also rising.

² Overweight and obesity are classified according to a measurement called the Body Mass Index (BMI). Among children and youth, obesity is defined by the IOM as those who have a BMI at or above the 95th percentile of the gender- and age-specific BMI charts developed by the Centers for Disease Control and Prevention (CDC) in 2000. The term overweight is used by the CDC and others to refer to children and youth who meet the same criteria. In most children, such BMI values indicate levels of body fat associated with the presence or risk of related chronic diseases.

Both within government and the private sector, multiple efforts are being taken or proposed to find and implement effective measures to reverse the childhood obesity trend. These include a wide variety of approaches, including identifying and funding additional research on childhood obesity, considering changes to food and beverage labeling, encouraging physical activity, and educating parents and children about the importance of physical activity and eating a balanced, nutritious diet. One frequent area of attention is the role of food and beverage advertising and other marketing directed to children.

Last fall, the Institute of Medicine issued a report of findings by the Committee on Prevention of Obesity in Children and Youth.³ The report included many recommendations for action by industry, government, schools, and parents. Among them was a recommendation that the Department of Health and Human Services (“HHS”) convene a national conference to assist the development of industry self-regulatory guidelines for marketing and advertising to children to help minimize the risk of obesity. The IOM also recommended that the FTC monitor compliance with those guidelines.

³ Institute of Medicine. 2005. Preventing Childhood Obesity: Health in the Balance, The National Academy Press (hereinafter “IOM Report”).

In the United States, industry members have adopted their own set of guidelines to encourage responsible advertising, including food advertising, to children. These guidelines, administered by the Council of Better Business Bureau's Children's Advertising Review Unit (CARU), were established in 1974 by the National Advertising Review Council (NARC) to promote responsible children's advertising.⁴

⁴ CARU's “Self-Regulatory Guidelines for Children's Advertising” include basic principles for responsible advertising directed to children under 12, as well as principles that relate to specific advertising techniques, such as advertising that involves endorsement and promotion by program or editorial characters. A number of the principles also directly affect how foods and beverages are marketed to children.

CARU reviews and evaluates child-directed advertising in all media and seeks voluntary changes by the advertiser when it finds advertising that is misleading, inaccurate, or otherwise inconsistent with its guidelines. CARU's decisions and the advertiser's response are published in the National Advertising Division (NAD)/CARU Case Report. The Council of Better Business Bureaus administers this program with funds from members of the children's advertising industry.

In June 2004, NARC published a white paper detailing CARU's ongoing self-regulatory efforts and synthesizing the specific principles, guidelines, and decisions related to food advertising to children. Information about CARU's self-regulatory program, including the guidelines and white paper, is available on the CARU Web site at http://www.caru.org.

In recent years, many individual companies in the food, beverage, and restaurant industries, and in the media and entertainment industries, have also taken actions to advance responsible food and beverage marketing to children and promote healthy lifestyles. These actions include reformulating food and beverage products to improve their nutritional profile, introducing new products, modifying portion sizes and packaging, providing additional nutrition and health information in labeling and advertising, establishing nutritional thresholds for products marketed to children, establishing criteria for marketing techniques that are appropriate for children, and sponsoring educational campaigns and programs that promote healthy food choices and physical activity.

Consumer groups have made proposals for expanded self-regulatory activities. For example, in January 2005, the Center for Science in the Public Interest (CSPI) ⁵ proposed an expanded set of “Guidelines for Responsible Food Marketing to Children,” which calls for further voluntary reforms linked to specific nutritional thresholds. Additional information about CSPI's proposal is available on the CSPI Web site at http://www.cspinet.org.

⁵ CSPI is a consumer advocacy organization whose stated missions are to conduct innovative research and advocacy programs in health and nutrition, and to provide consumers with current, useful information about their health and well-being.

In light of the widespread public interest in marketing of food and beverages to children, the FTC and HHS will hold a workshop on July 14-15, 2005 in Washington, DC to provide a forum for discussion of ongoing industry self-regulatory efforts that seek to address the marketing of food and beverages to children.⁶

⁶ The workshop will focus on food and beverage marketing to children. It is not intended to cover other possible contributors to childhood obesity, including sedentary behaviors like watching television, playing electronic games on a computer, or decreases in exercise, or the marketing of related sedentary entertainment products.

At the workshop, participants will discuss industry members' efforts to address concerns about marketing to children, and CARU's efforts to encourage responsible industry advertising. It will also provide a forum to hear from consumer advocacy and public health groups concerning current industry practices.

To help in planning for the workshop, the FTC and HHS invite comment on the issues and topics set out below.

1. Food and Beverage Marketing to Children: Including the types of foods and beverages marketed to children; how “children's shows” are usually defined by marketers, advertisers, and self-regulatory and regulatory groups; the media (e.g., broadcast and cable television, radio, print, the Internet), themes (e.g., taste, fun, nutrition), and techniques (e.g., licensing, product placements, packaging) used in such marketing; whether the type and technique used in marketing varies based on the age of the children who are targeted by marketers; the age groups usually targeted by marketers advertising to children (i.e., is it usually children aged 2-5, 6-11, and 12 & over, or some other age group); the amounts spent on such marketing; the extent of children's exposure to such marketing; and how each of the above has changed over time.

2. Research on Impact of Marketing on Child Health: Including any correlation over time between food and beverage marketing and children's obesity rates, across U.S. regions, and internationally; the extent to which any link is explained by the marketing, the sedentary nature of TV watching, unobserved family characteristics, or other factors; changes in children's food consumption patterns over the past three decades; and whether increased caloric intake can be attributed to the consumption of more heavily marketed foods.

3. Existing Industry-Wide Self-Regulatory Programs: Including CARU's self-regulatory program; the scope of its guidelines (e.g., the media and types of marketing covered, the principles encompassed, the age threshold); its effectiveness (e.g., the extent of monitoring and enforcement, the degree of industry compliance); consumer and industry awareness; and the scope and impact of other self-regulatory programs in the U.S. or abroad that relate to food or beverage marketing to children.

4. Individual Company Self-Regulatory Efforts & Best Marketing Practices: including the efforts of food and beverage companies to foster healthier food choices by children and their parents through marketing policies (e.g., nutritional criteria, restrictions on media placement, marketing themes, techniques), product modifications (e.g., nutritional profile, portion size, packaging information), and other means; competition among food and beverage companies to market healthier food choices to children and their parents; the efforts of media and entertainment companies to foster healthier food choices by children and their parents through policies regarding the placement and content of food and beverage advertising, the licensing and cross-promotion of movie, television or electronic game programs or characters in food and beverage marketing, and the placement of food and beverage products in children's programming; and how the actions or policies of government or other stakeholders have created barriers or incentives to industry efforts to foster healthier food choices for children.

5. Education: including the effectiveness of efforts by industry members, media or entertainment companies, government, public advocacy groups, and others to educate children and their parents about the nutritional content of food and beverage products and the importance of good nutrition and a healthy lifestyle (including industry member “seal” programs like “Smart Spot” and “Sensible Solutions”).

6. Plans/Proposals for New Initiatives: including the pros and cons of adopting one or more of the approaches suggested by CSPI or others; any practical experience in implementing such approaches; possible roles for industry, the media or third-party self regulatory groups like CARU in implementing such proposals; whether self-regulatory initiatives should vary based on the age of children who are targeted by marketers; additional research that might advance our understanding of the impact, if any, of food and beverage marketing on childhood obesity; and other issues that should be addressed at the workshop.

Requests To Participate as a Panelist in the Workshop

Parties seeking to participate as panelists in the workshop must notify the FTC in writing of their interest in participating on or before Thursday, June 9, 2005. Requests to participate as a panelist should be submitted electronically by e-mail to FoodMarketingtoKids@ftc.gov or, if mailed, should be submitted in the manner detailed in the ADDRESSES section above, and should be captioned “Food Marketing to Kids Workshop—Request to Participate, Project No. P034519.” Parties are asked to include in their requests a statement setting forth their expertise in or knowledge of the issues on which the workshop will focus and their contact information, including a telephone number, facsimile number, and e-mail address (if available), to enable the FTC to notify them if they are selected. For requests filed in paper form, an original and two copies of each document should be submitted. Panelists will be notified on or before Thursday, June 23, 2005, if they have been selected.

Using the following criteria, FTC/HHS staff will select a limited number of panelists to participate in the workshop:

1. The party has expertise in or knowledge of the issues that are the focus of the workshop.

2. The party's participation would promote a balance of interests being represented at the workshop.

3. The party has been designated by one or more interested parties (who timely file requests to participate) as a party who shares group interests with the designator(s).

In addition, there will be time during the workshop for those not serving as panelists to ask questions.

Form and Availability of Comments

The FTC/HHS request that interested parties submit written comments on the above questions and other related issues to foster greater understanding of these topics. Especially useful are any studies, surveys, research, and empirical data. All comments should be filed as prescribed in the ADDRESSES section above, and must be received on or before Thursday, June 9, 2005.

Dated: May 9, 2005.
Donald S. Clark,
Secretary, Federal Trade Commission.
Dated: May 9, 2005.
Ann C. Agnew,
Executive Secretary to the Department, Department of Health and Human Services.

[FR Doc. 05-9576 Filed 5-11-05; 8:45 am]

BILLING CODE 6750-01-P